DEPARTMENT OF THE INTERIOR

Bureau of Land Management

[AZA 31893]

Notice of Proposed Withdrawal; Arizona

AGENCY: Bureau of Land Management, Interior.

ACTION: Notice.

SUMMARY: The United States Forest Service proposes to withdraw 597.50 acres of National Forest System land to protect the archeological and historical values of the Ridge Ruin Archeological District. This notice segregates the land for up to 2 years from location and entry under the United States mining laws. The land will remain open to all other uses which may by law be made of National Forest System land.

DATES: Comments should be received on or before May 22, 2002.

ADDRESSES: Comments should be sent to the Forest Supervisor, Coconino National Forest, 2323 E. Greenlaw Lane, Flagstaff, Arizona 86004.

FOR FURTHER INFORMATION CONTACT: Pete Mourtsen, Coconino National Forest, 928-527-3414.

SUPPLEMENTARY INFORMATION: The Forest Service proposes to withdraw the following described National Forest System land from location and entry under the United States mining laws, subject to valid existing rights:

Coconino National Forest

Gila and Salt River Meridian

T. 21 N., R. 10 E.,

Sec. 7, lots 6, 7, and 12, and SE¼;

Sec. 8, S½SW¼SW¼NW¼, and W½W½SW¼;

Sec. 17, W½NW¼NW¼, NW¼SW¼NW¼, and N½N½SW¼SW¼NW¼;

Sec. 18, N½NE¼, N½S½NE¼, N½N½S½NE¼, and lots 1 and 6.

The area described contains 597.50 acres in Coconino County.

For a period of 90 days from the date of publication of this notice, all persons who wish to submit comments, suggestions, or objections in connection with the proposed withdrawal may present their views in writing to the Forest Supervisor of the Coconino National Forest.

Notice is hereby given that an opportunity for a public meeting is afforded in connection with the proposed withdrawal. All interested persons who desire a public meeting for the purpose of being heard on the proposed withdrawal must submit a written request, by the date specified above, to the Forest Supervisor, Coconino National Forest. Upon determination by the authorized officer that a public meeting will be held, a notice of time and place will be published in the Federal Register at least 30 days before the scheduled date of the meeting.

The application will be processed in accordance with the regulations set forth in 43 CFR part 2300.

For a period of 2 years from the date of publication of this notice in the Federal Register, the land will be segregated as specified above unless the application is denied or canceled or the withdrawal is approved prior to that date.

Dated: November 27, 2001.
Daniel H. Nowell,
Acting Deputy State Director, Resources Division.

[FR Doc. 02-4162 Filed 2-20-02; 8:45 am]

BILLING CODE 3410-11-P